DEPARTMENT OF JUSTICE

Office of Justice Programs

[OJP (OJP) Docket No. 1799]

Hearings of the Review Panel on Prison Rape

AGENCY: Office of Justice Programs, Justice.

ACTION: Notice of hearings.

SUMMARY: The Office of Justice Programs (OJP) announces that the Review Panel on Prison Rape (Panel) will hold hearings in Washington, DC, on May 17-18, 2022. The hearings times and location are noted below. The purpose of the hearings is to assist the Bureau of Justice Statistics (BJS) in identifying common characteristics of victims and perpetrators of sexual victimization in U.S. juvenile facilities, and the common characteristics of juvenile facilities with the highest and lowest incidence of rape, respectively, based on anonymous surveys by the BJS of youth in a representative sample of juvenile facilities. In December 2019, the BJS issued the report Sexual Victimization Reported by Youth in Juvenile Facilities, 2018. The report provides a listing of juvenile facilities grouped according to the prevalence of reported sexual victimization, and formed the basis of the Panel's decision about which juvenile facilities would be the subject of testimony.

DATES: The hearing schedule is as follows:

1. Tuesday, May 17, 2022, 10:00 a.m. to 5 p.m.: Kevin Scott, Deputy Director of the Statistical Operations Division, Bureau of Justice Statistics, U.S. Department of Justice; Scott Catey, Associate Director, National PREA Resource Center; Deep Creek Youth Academy (formerly known as Gulf Academy), Florida Department of Juvenile Justice—facility with a high prevalence of sexual victimization; St. Anthony Juvenile Corrections Center, Idaho Department of Juvenile Corrections—facility with a high prevalence of sexual victimization; Oak Creek Youth Correctional Facility, Oregon Youth Authority—facility with a high prevalence of sexual victimization.

2. Wednesday, May 18, 2022, 10:00 a.m. to 3:30 p.m.: Garza County Regional Juvenile Center, Texas Juvenile Justice Department—facility with a low prevalence of sexual victimization; Jason Szanyi, Deputy Director, Center for Children's Law and Policy, W.E. Sears Youth Center, Missouri Division of Youth Services—facility with a low prevalence of sexual victimization; Dr. David Roush, Senior Advisor, National Juvenile Detention Association; Professor Brenda Smith, Washington College of Law, American University.

Location: The hearings will take place at Department of Justice, Office of Justice Programs, Main Conference Room, Third Floor, 810 Seventh Street NW, in Washington, DC. Those wishing to attend the hearings in person are asked to preregister at https://web.cvent.com/event/4954db60-b0d2-47a5-8dd7-ca02cf376149/summary. The hearings will also be streamed online via Microsoft WebEx. Information on accessing the livestream will be posted on the Panel's web page (http://www.ojp.usdoj.gov/reviewpanel/reviewpanel.htm) prior to the hearings.

FOR FURTHER INFORMATION CONTACT: Joseph Swiderski, Program Analyst, OJP, Joseph.Swiderski@usdoj.gov, (202) 514-8615. [Note: This is not a toll-free number.]

SUPPLEMENTARY INFORMATION: The Panel, which was established pursuant to the Prison Rape Elimination Act of 2003, Public Law 108-79, 117 Stat. 972 (codified as amended at 34 U.S.C. 30301-30309), will hold its next hearings to carry out the review functions specified at 34 U.S.C. 30303(b)(3)(A). Testimony from the hearings will assist the Panel in carrying out its statutory obligations. The witness list is subject to amendment; please refer to the Review Panel on Prison Rape's website at http://www.ojp.usdoj.gov/reviewpanel/reviewpanel.htm for any updates regarding the hearing schedule. Space is limited at the hearing location. Members of the public who wish to attend the hearings in Washington, DC, must present government-issued photo identification upon entrance to the building, and are requested to register at this site:

At this time, the CDC has updated the COVID-19 Community Level for the District of Columbia to “MEDIUM.” As a result, all in-person attendees must provide proof of vaccination or show a negative COVID-19 test result from within the previous three days, as well as comply with any and all other applicable local and Department health and safety requirements that may exist at the time of entrance. Please refer to the Review Panel on Prison Rape's website for updated guidance on in-person attendance in the event the COVID-19 Community Level changes,

Requests for accommodations should be made to Joseph Swiderski, Program Analyst, OJP, Joseph.Swiderski@usdoj.gov, (202) 514-8615, at least one week before the hearings.

Michael Alston,
Director, Office for Civil Rights, Office of Justice Programs.

[FR Doc. 2022-09367 Filed 4-29-22; 8:45 am]

BILLING CODE 4410-18-P